DEPARTMENT OF THE INTERIOR

Fish and Wildlife Service

[FWS-R2-ES-2018-N045; FXES11130200000-189-FF02ENEH00]

U.S. Endangered Species; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act of 1973, as amended (ESA), prohibits certain activities that may impact endangered species unless a Federal permit allows such activity. The ESA also requires that we invite public comment before issuing these permits.

DATES: To ensure consideration, please send your written comments by August 30, 2018.

ADDRESSES: Document availability: Request documents by phone or email: Susan Jacobsen, 505-248-6641, susan_jacobsen@fws.gov.

Comment submission: Submit comments by U.S. mail to Susan Jacobsen, Classification and Recovery Division, U.S. Fish and Wildlife Service, P.O. Box 1306, Albuquerque, NM 87103. Please specify the permit you are interested in by number (e.g., Permit No. TE-123456).

FOR FURTHER INFORMATION CONTACT: Susan Jacobsen, Chief, Classification and Restoration Division, 505-248-6641.

Background

With some exceptions, the ESA prohibits activities that constitute take of listed species unless a Federal permit is issued that allows such activity. The ESA's definition of “take” includes hunting, shooting, harming, wounding, or killing but also such activities as pursuing, harassing, trapping, capturing, or collecting.

The ESA and our implementing regulations in the Code of Federal Regulations (CFR) title 50, part 17, provide for issuing such permits and require that we invite public comment before issuing permits for activities involving endangered species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Releasing documents is subject to the Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the application number when submitting comments.

Application No. | Applicant | Species | Location | Activity | Type of take | Permit action
TE-72370C | Gonzales, Kelly; Houston, Texas | Aplomado Falcon (Falco femoralis septentrionalis), Interior Least Tern (Sterna antillarum), Gulf Coast jaguarundi (Herpailurus yagouaroundi cacomitli), Ocelot (Leopardus pardalis), Piping Plover (Charadrius melodus), Red Knot (Calidris canutus rufa) | Alabama, Arizona, Arkansas, Florida, Georgia, Kentucky, Louisiana, Mississippi, New Mexico, North Carolina, Oklahoma, South Carolina, Tennessee, Texas | Presence/absence surveys, Nest monitoring | Harm and harass | New.
TE-79697C | Clark, Barrett; Kyle, Texas | Coffin Cave mold beetle (Batrisodes texanus), Helotes mold beetle (Batrisodes venyivi), Robber Baron Cave meshweaver (Cicurina baronia), Madla Cave meshweaver (Cicurina madla), Bracken Bat Cave meshweaver (Cicurina venii), Government Canyon Bat Cave meshweaver (Cicurina vespera), Government Canyon Bat Cave spider (Neoleptoneta microps), Tooth Cave spider (Neoleptoneta myopica), Ground beetle (Rhadine exilis), Ground beetle (Rhadine infernalis), Tooth Cave ground beetle (Rhadine persephone), Tooth Cave pseudoscorpion (Tartarocreagris texana), Kretschmarr Cave mold beetle (Texamaurops reddelli), Cokendolpher cave harvestmen (Texella cokendolpheri), Bee Creek Cave harvestmen (Texella reddilli), Bone Cave harvestman (Texella reyesi), Diminutive amphipod (Gammarus hyalleloides), Pecos amphipod (Gammarus pecos), Comal Springs riffle beetle (Heterelmis comalensis), Peck's Cave amphipod (Stygobromus pecki), Comal Springs dryopid beetle (Stygoparnus comalensis) | Texas | Habitat assessments, presence/absence surveys, biological monitoring, biological inventories | Capture, harm, and harass, injury, death, removal | New.
TE-79170C | Ogle, Jennifer; Fayetteville, Arkansas | American burying beetle (Nicrophorus americanus) | Arkansas, Kansas, Oklahoma, Texas | Presence/absence surveys | Capture, harm, harass | New.
TE-43719A | Desert Botanical Garden; Phoenix, Arizona | Acuna cactus (Echinomastus erectrocentrus var. acunensis), Kuenzler hedgehog cactus (Echinocereus fendleri var. kuenzleri) | Arizona, New Mexico | Collection of tissue | Harm | Renew.
TE-168185 | Cox/McClain Environmental Consulting; Austin, Texas | Gray bat (Myotis grisescens), Northern long-eared bat (Myotis septentrionalis), Ozark big-eared bat (Corynorhinus townsendii ingens) | Oklahoma | Capture, handle, tag, and release, presence/absence surveys, habitat assessments, habitat use studies, population monitoring, collection of tissue | Capture, harm, harass | Amend.
TE-148363 | Martin, Keith; Claremore, Oklahoma | American burying beetle (Nicrophorus americanus), Northern long-eared bat (Myotis septentrionalis), Gray bat (Myotis grisescens), Indiana bat (Myotis sodalist), Ozark big-eared bat (Corynorhinus townsendii ingens) | Arkansas, Kansas, Missouri, Oklahoma | Presence/absence surveys, abundance inventories, presence/absence trapping, acoustic surveys, hibernacula monitoring, collection of tissue, exit surveys, banding, construction and repair internal grill/gate systems | Capture, harm, harass | Renew.
TE-009926-3 | Gulf South Research Corporation; Baton Rouge, Louisiana | Reticulated flatwoods salamander (Ambystoma bishopi), Chiricahua leopard frog (Lithobates chiricahuensis), Southwestern willow flycatcher (Empidonax traillii extimus), Sierra Nevada yellow-legged frog (Lithobates sierrae), Yosemite toad (Anaxyrus canorus), Arroyo toad (Anaxyrus californicus), Giant garter snake (Thamnophis gigas), Interior Least Tern (Sterna antillarum) | Arizona, Arkansas, California, Florida, New Mexico | Presence/absence surveys, seining | Capture, harm, harass | Amend.
TE-77509C-0 | Schuster, Sara; Saint Louis, Missouri | Golden-cheeked Warbler (Setophaga chrysoparia) | Texas | Presence/absence surveys, nest monitoring | Harm and harass | New.
TE-74409C | Kitchen, Matthew; San Antonio, Texas | Golden-cheeked Warbler (Setophaga chrysoparia) | Texas | Presence/absence surveys, habitat surveys | Harm and harass | New.
TE-72898C | Williams, David; Fayetteville, Arkansas | American burying beetle (Nicrophorus americanus) | Arkansas, Kansas, Oklahoma, Texas | Presence/absence surveys | Capture, harm and harass | New.
TE-71114C-0 | Kainer, Patrick; Austin, Texas | Houston toad (Bufo houstonensis) | Texas | Presence/absence surveys | Harm and harass | New.
TE-73319B-0 | Thompson, Brent; Los Alamos, New Mexico | Jemez Mountains salamander (Plethodon neomexicanus), Southwestern willow flycatcher (Empidonax traillii extimus) | New Mexico | Presence/absence surveys | Capture, harm, harass | Amend.
TE-72371C | Boone, Aaron; San Antonio, Texas | Golden-cheeked Warbler (Setophaga chrysoparia), Black-capped Vireo (Vireo atricapilla) | Oklahoma, Texas | Presence/absence surveys, nest monitoring, habitat suitability surveys | Harm and harass | New.
TE-60111B | Robb, Natalie; Mesa, Arizona | Razorback sucker (Xyrauchen texanus), Bonytail chub (Gila elegans), Colorado pikeminnow (Ptychocheilus lucius), Humpback chub (Gila cypha), Spikedace (Meda fulgida) | Arizona, California, Nevada | Presence/absence surveys, electrofishing, minnow traps, hoop nets, seines, dip nets, snorkeling, angling and/or trammel or gill nets | Capture, harm and harass | Amend.
TE-72895C | Schatte, Joshua; Guthrie, Oklahoma | American burying beetle (Nicrophorus americanus) | Arkansas, Kansas, Oklahoma, Texas | Presence/absence surveys | Capture, harm, and harass | New.
TE-69480C | Haverland, Matthew; San Marcos, Texas | Golden-cheeked Warbler (Setophaga chrysoparia) | Texas | Presence/absence surveys, territory mapping, nest monitoring | Harm and harass | New.
TE-17880C | Garrett, Timothy; Houston, Texas | American burying beetle (Nicrophorus americanus) | Oklahoma | Presence/absence surveys | Capture, harm, and harass | Amend.
TE-71101C-0 | Ramirez, Abbey; Tahlequah, Oklahoma | American burying beetle (Nicrophorus americanus) | Oklahoma | Presence/absence surveys | Capture, harm, and harass | New.
TE-71110C | Durish, Nevin; Austin, Texas | Golden-cheeked Warbler (Setophaga chrysoparia), Black-capped Vireo (Vireo atricapilla), Houston toad (Bufo houstonensis) | Oklahoma, Texas | Presence/absence surveys | Harm and harass | New.
TE40886B | Zahratka, Jennifer; Durango, Colorado | Southwestern Willow Flycatcher (Empidonax traillii extimus), Black-footed ferret (Mustela nigripes) | Arizona, Colorado, New Mexico, Texas, Utah | Presence/absence surveys | Harm and harass | Amend.
TE82893C | Pina, Anna; El Paso, Texas | Roswell springsnail (Pyrgulopsis roswellensis), Koster's springsnail (Juturnia kosteri), Pecos asseiminea snail (Assiminea pecos), Noel's amphipod (Gammarus desperatus) | New Mexico, Texas | Sampling, collection | Harm and harass | New.
TE30430B | University of Houston—Clear Lake; Houston, TX | Leon Springs pupfish (Cyprinodon bovinus), Comanche Springs pupfish (Cyprinodon elegans), Big Bend gambusia (Gambusia gaigei), Pecos gambusia (Gambusia nobilis), Smalleye shiner (Notropis buccula), Sharpnose shiner (Notropis oxyrhynchus) | Texas | Sampling, collecting | Harm and harass | Amend.

Public Availability of Comments

All comments and materials we receive in response to these requests will be available for public inspection, by appointment, during normal business hours at the address listed in ADDRESSES.

Before including your address, phone number, email address, or other personal identifying information in your comment, you should be aware that your entire comment—including your personal identifying information—may be made publicly available at any time. While you can ask us in your comment to withhold your personal identifying information from public review, we cannot guarantee that we will be able to do so.

Authority: We provide this notice under section 10 of the ESA (16 U.S.C. 1531 et seq.).

Dated: March 30, 2018.
Amy L. Lueders.
Regional Director, Southwest Region, U.S. Fish and Wildlife Service.

[FR Doc. 2018-16306 Filed 7-30-18; 8:45 am]

BILLING CODE 4333-15-P